DEPARTMENT OF THE INTERIOR

Fish and Wildlife Service

Delta and Breton National Wildlife Refuges

AGENCY: Fish and Wildlife Service, Interior.

ACTION: Notice of intent to prepare a Comprehensive Conservation Plan and Environmental Assessment for Delta National Wildlife Refuge in Plaquemines Parish, Louisiana, and Breton National Wildlife Refuge in St. Bernard and Plaquemines Parishes, Louisiana.

SUMMARY: The Fish and Wildlife Service, Southeast Region, intends to gather information necessary to prepare a comprehensive conservation plan and environmental assessment pursuant to the National Environmental Policy Act of 1969 and its implementing regulations.

The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

The purpose of this notice is to achieve the following:

(1) Advise other agencies and the public of our intentions, and

(2) Obtain suggestions and information on the scope of issues to include in the environmental document.

DATES: To ensure consideration, written comments must be received no later than June 29, 2006.

ADDRESSES: Comments, questions, and requests for more information regarding the planning process for Delta and Breton National Wildlife Refuges should be sent to: Refuge Manager, Delta and Breton National Wildlife Refuges, Southeast Louisiana National Wildlife Refuge Complex, 61389 Highway 434, Lacombe, Louisiana 70445. Comments may also be submitted electronically to: Charlotte_Parker@fws.gov; or by telephone: 985/882-2000.

SUPPLEMENTARY INFORAMTION: The comprehensive conservation planning process will consider many elements, including wildlife and habitat management, habitat protection and acquisition, wilderness preservation, public recreational activities, industrial use, and cultural resource preservation. Public input into this planning process is essential. Open house style meetings and focus group meetings will be held throughout the scoping phase of the planning process for each refuge. The Service will conduct a cultural resources overview study in support of the comprehensive conservation plan. The professional study will identify known sites on the refuge.

Special mailings, newspaper articles, and other media announcements will inform people of opportunities for written input throughout the planning process. Information on this process will be posted on the Internet at http://southeastlouisiana.fws.gov. All comments received from individuals become part of the official public record. Requests for such comments will be handled in accordance with the Freedom of Information Act and the Council on Environmental Quality's NEPA regulations [40 CFR 1506.6(f)].

Delta National Wildlife Refuge was established in 1935. Its 49,000 acres were formed by the deposition of sediment carried by the Mississippi River. The primary purpose of the refuge is to provide sanctuary and habitat for wintering waterfowl.

Breton National Wildlife Refuge was established in 1904 through executive order of President Theodore Roosevelt. It's the second-oldest refuge among the National Wildlife Refuge System. Its objectives are to provide sanctuary for nesting and wintering seabirds, to protect and conserve the wilderness character of the islands, and to provide sandy beach habitat for a variety of wildlife species.

Authority: This notice is published under the authority of the National Wildlife Refuge System Improvement Act of 1997, Public Law 105-57.

Dated: April 13, 2006.
Cynthia K. Dohner,
Acting Regional Director.

[FR Doc. 06-4907 Filed 5-26-06; 8:45am]

BILLING CODE 4310-55-M